DEPARTMENT OF THE TREASURY

Submission for OMB Review; Comment Request

September 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before October 28, 2009 to be assured of consideration.

Office of Foreign Portfolio Investment

OMB Number: 1505-0146.

Type of Review: Extension.

Title: Survey of U.S. Ownership of Foreign Securities.

Description: The survey will collect information on U.S. holdings of foreign securities. The information will be used in the computation of the U.S. balance of payments accounts and international investments position, as well as in the formulation of U.S. financial and monetary policies. This survey is also part of an international effort coordinated by the IMF to improve worldwide balance of payments statistics. Respondents are primarily the largest banks, securities dealers, and investors.

Respondents: Businesses or other for-profit institutions.

Estimated Total Reporting Burden: 40,740 hours.

Clearance Officer: Dwight Wolkow, (202) 622-2176, 1500 Pennsylvania Avenue, Room 2064D, Washington, DC 20220.

OMB Reviewer: OIRA Desk Officer, Office of Management and Budget, Room 10235, New Executive Office Building, Washington, DC 20503, oira_submission@omb.eop.gov.

Robert Dahl,
Treasury PRA Clearance Officer.

[FR Doc. E9-23272 Filed 9-25-09; 8:45 am]

BILLING CODE 4810-25-P